ENVIRONMENTAL PROTECTION AGENCY

[ER-FRL-8987-4]

Environmental Impacts Statements; Notice of Availability

Responsible Agency: Office of Federal Activities, General Information (202) 564-1399 or http://www.epa.gov/compliance/nepa/

Weekly Receipt of Environmental Impact Statements

Filed 01/04/2010 Through 01/08/2010

Pursuant to 40 CFR 1506.9

Notice: In accordance with Section 309(a) of the Clean Air Act, EPA is required to make its comments on EISs issued by other Federal agencies public. Historically, EPA has met this mandate by publishing weekly notices of availability of EPA comments, which includes a brief summary of EPA's comment letters, in the Federal Register. Since February 2008, EPA has been including its comment letters on EISs on its Web site at: http://www.epa.gov/compliance/nepa/eisdata.html. Including the entire EIS comment letters on the Web site satisfies the Section 309(a) requirement to make EPA's comments on EISs available to the public. Accordingly, after March 31, 2010, EPA will discontinue the publication of this notice of availability of EPA comments in the Federal Register.

EIS No. 20100000, Draft EIS, DOE, SD, South Dakota Prairie Winds Project, Proposes to Construct, Own, Operate, and Maintain a 151.5 megawatt (MW) Nameplate Capacity Wind-Powered Generation Facility, Aurora, Brule, and Jerauld, Tripp Counties, SD, Comment Period Ends: 03/01/2010, Contact: Liana Reilly 800-336-7288.

EIS No. 20100001, Final EIS, FERC, 00, Ruby Pipeline Project, Proposed Natural Gas Pipeline Facilities, Right-of-Way Grants (and/or Temporary Use or Special Use Permits), WY, UT, NV and OR, Wait Period Ends: 02/16/2010, Contact: Julia Bovey 1-866-208-3372.

EIS No. 20100002, Final EIS, USFS, NV, Middle Kyle Canyon Complex Project, Construction and Operation of a Recreation Complex within the Spring Mountains National Recreation Area, Humboldt-Toiyabe National Forest, Clark County, NV, Wait Period Ends: 02/16/2010, Contact: Hal Peterson 702-839-5572.

EIS No. 20100003, Draft EIS, USAF, ND, Grand Forks Air Force Base Project, Beddown and Flight Operations of Remotely Piloted Aircraft, Base Realignment and Closure, (BRAC), ND, Comment Period Ends: 03/01/2010, Contact: Doug Allbright 618-229-0841.

EIS No. 20100004, Draft EIS, NOAA, 00, Amendment 11 to the Atlantic Mackerel, Squid, and Butterfish (MSB), Fishery Management Plan (FMP), Establish an Atlantic Mackerel Limited Access Program, Implementation, Comment Period Ends: 03/01/2010, Contact: Patricia A. Kurkul 978-281-9250.

Amended Notices

EIS No. 20090368, Draft EIS, NSA, TN, Y-12 National Security Complex Project, to Support the Stockpile Stewardship Program and to Meet the Mission Assigned to Y-12, Oak Ridge, TN, Comment Period Ends: 01/29/2010, Contact: Pam Gorman 865-576-9903.

Revision to FR Notice Published 10/30/2009: Extending Comment Period from 01/04/2010 to 01/29/2010.

EIS No. 20090437, Final EIS, USACE, NC, Western Wake Regional Wastewater Management Facilities, Proposed Construction of Regional Wastewater Pumping, Conveyance, Treatment, and Discharge Facilities to Serve the Towns of Apex, Cary, Holly Springs and Morrisville, Research Triangle Park, Wake County, NC, Wait Period Ends: 02/09/2010, Contact: Henry Wicker 910-251-4930.

Revision to FR Notice Published: 12/18/2009 Extending Comment Period from 01/19/2010 to 02/09/2010.

Dated: January 12, 2010.
Robert W. Hargrove,
Director, NEPA Compliance Division, Office of Federal Activities.

[FR Doc. 2010-755 Filed 1-14-10; 8:45 am]

BILLING CODE 6560-50-P